DEPARTMENT OF TRANSPORTATION

Federal Aviation Administration

[Docket No.: FAA-2022-0273; Summary Notice No. 2022-26]

Petition for Exemption; Summary of Petition Received; Aviation Specialties Unlimited, Inc.

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion nor omission of information in the summary is intended to affect the legal status of the petition or its final disposition.

DATES: Comments on this petition must identify the petition docket number and must be received on or before June 27, 2022.

ADDRESSES: Send comments identified by docket number FAA-2022-0273 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Alphonso Pendergrass (202) 267-4713, Office of Rulemaking, Federal Aviation Administration, 800 Independence Avenue SW, Washington, DC 20591.

This notice is published pursuant to 14 CFR 11.85.

Issued in Washington, DC.
Angela O. Anderson,
Director, Regulatory Support Division, Office of Rulemaking.

PETITION FOR EXEMPTION

Docket No.: FAA-2022-0273.

Petitioner: Aviation Specialties Unlimited, Inc.

Section(s) of 14 CFR Affected: §§ 91.9(a) and 91.205(h)(7).

Description of Relief Sought: Aviation Specialties Unlimited, Inc. (ASU) petitions for relief from 14 CFR §§ 91.205(h)(7) and 91.9(a) to conduct Airplane Night Vision Goggle (ANVG) operations under part 135 and to provide flight training to other part 135 operators, part 141 training, FAA Aviation Safety Inspector Training, international students and organizations, agricultural aircraft operators, public aircraft operators, and internal annual and recurrent training with an unreliable or not normally functioning radar (radio) altimeter. These operations will take place under visual flight rules (VFR) conditions at night, to include night landings and takeoffs from General Aviation airports.

[FR Doc. 2022-13145 Filed 6-17-22; 8:45 am]

BILLING CODE 4910-13-P